DEPARTMENT OF HOMELAND SECURITY

Coast Guard

33 CFR Part 100

[Docket No. USCG-2018-0442]

Special Local Regulations for Marine Events; Atlantic Ocean, Thunder Over the Boardwalk Air Show, Atlantic City, NJ

AGENCY: Coast Guard, DHS.

ACTION: Notice of enforcement of regulation.

SUMMARY: The Coast Guard will enforce the Thunder Over the Boardwalk Air Show special local regulation from 10:30 a.m. through 4:30 p.m. August 20-22, 2018, to provide for the safety of life on navigable waterways during this event. Our regulation for marine events within the Fifth Coast Guard District identifies the regulated area for this event in Atlantic City, NJ. During the enforcement periods, the operator of any vessel in the regulated area must comply with directions from the Patrol Commander or any Official Patrol displaying a Coast Guard ensign.

DATES: The regulations in 33 CFR 100.501 will be enforced each day from 10:30 a.m. to 4:30 p.m. August 20-22, 2018, for the special local regulation listed at (a)8 in the table to § 100.501.

FOR FURTHER INFORMATION CONTACT: If you have questions about this notice of enforcement, you may call or email MST1 Edmund Ofalt, Sector Delaware Bay Waterways Management Division, U.S. Coast Guard; telephone 215-271-4889, email Edmund.J.Ofalt@USCG.mil.

SUPPLEMENTARY INFORMATION: On April 20, 2018, the Greater Atlantic City Chamber of Commerce notified the Coast Guard of a date change through submission of a marine event application. A change of the dates to the previously published dates in the Code of Federal Regulations (CFR) for the annual Thunder Over the Boardwalk Air Show, as listed in the Table to 33 CFR 100.501 at (a)8. is necessary due to a schedule change from the sponsor. This year the Coast Guard will enforce the special local regulation for the Thunder Over the Boardwalk Air Show regulated area from 10:30 a.m. to 4:30 p.m. August 20-22, 2018. This action is being taken to provide for the safety of life on navigable waterways during this 3-day event. Our regulation for marine events within the Fifth Coast Guard District, § 100.501, specifies the location of the regulated area for the Atlantic City Air Show which encompasses all waters of the North Atlantic Ocean, adjacent to Atlantic City, New Jersey, bounded by a line drawn between the following points: From a point along the shoreline at latitude 39°21′31″ N, longitude 074°25′04″ W, thence southeasterly to latitude 39°21′08″ N, longitude 074°24′48″ W, thence southwesterly to latitude 39°20′16″ N, longitude 074°27′17″ W, thence northwesterly to a point along the shoreline at latitude 39°20′44″ N, longitude 074°27′31″ W, thence northeasterly along the shoreline to latitude 39°21′31″ N, longitude 074°25′04″ W.

During enforcement, vessels or persons must not enter, transit through, anchor in, or remain within the regulated area unless first authorized to do so by the Captain of the Port Delaware Bay or a designated representative. If permission is granted, the person or vessel must comply with the instructions of the COTP, designated representative, or Patrol Commander.

Dated: July 17, 2018.
S.E. Anderson,
Captain, U.S. Coast Guard, Captain of the Port Delaware Bay.

[FR Doc. 2018-15608 Filed 7-20-18; 8:45 am]

BILLING CODE 9110-04-P